DEPARTMENT OF HEALTH AND HUMAN SERVICES

Indian Health Service

Notice of Request for Information

AGENCY: Indian Health Service, HHS.

ACTION: Notice.

SUMMARY: The Indian Health Service (IHS) is seeking broad public input as it begins efforts to advance and promote the health needs of the American Indian/Alaska Native (AI/AN) Lesbian, Gay, Bisexual, and Transgender (LGBT) community.

DATES: To be assured consideration, comments must be received at one of the addresses provided below, no later than 5:00 p.m. Eastern Daylight Time on July 6, 2015.

ADDRESSES: Electronic responses are encouraged and may be addressed to lisa.neel@ihs.gov. Written responses should be addressed to: Indian Health Service, 801 Thompson Avenue, Suite 300, Rockville, MD 20852. Attention: LGBT Feedback.

FOR FURTHER INFORMATION CONTACT: Lisa Neel, MPH, Indian Health Service HIV/AIDS Program, (301) 443-4305.

SUPPLEMENTARY INFORMATION: In the summer of 2015, the IHS will hold a public meeting to garner information from individuals on AI/AN LGBT health issues. The goal of this meeting will be to gain a better understanding of the health care needs of AI/AN LGBT individuals so that IHS can implement health policy and health care delivery changes to advance the health care needs of the AI/AN LGBT community. The agency is seeking to increase community access to and engagement with IHS leadership and secure a legacy of transparent, accountable, fair, and inclusive decision-making specific to AI/AN LGBT people.

This request for information seeks public comment on several key dimensions of the health needs of the AI/AN LGBT community, including but not limited to the following questions:

a. Are there effective models and best practices surrounding the health care of the LGBT community that should be considered for replication? Please include rationale for their use in the IHS service population.

b. What are the specific measures that could be used to track progress in improving the health of LGBT persons?

c. How can IHS better engage with stakeholders around the implementation of improvements?

d. Are there gaps or disparities in existing IHS services offered to LGBT persons?

e. What additional information should the agency consider while developing plans to improve health care for the LGBT community?

Dated: May 22, 2015.
Robert G. McSwain,
Acting Director, Indian Health Service.

[FR Doc. 2015-13774 Filed 6-4-15; 8:45 am]

BILLING CODE 4165-16-P